DEPARTMENT OF HOMELAND SECURITY

Bureau of Customs and Border Protection

19 CFR Part 173

[CBP Dec. 07-62]

Technical Correction: Voluntary Reliquidation of Deemed Liquidated Entries

AGENCY: Customs and Border Protection, Homeland Security.

ACTION: Final rule.

SUMMARY: This document amends title 19 of the Code of Federal Regulations by making technical corrections to § 173.3, which provides for voluntary reliquidations. These technical corrections conform § 173.3 to 19 U.S.C. 1501, as amended by section 2107 of the Miscellaneous Trade and Technical Corrections Act of 2004, which permits Customs and Border Protection to voluntarily reliquidate entries that are deemed liquidated by operation of law.

DATES: Effective Date: July 25, 2007.

FOR FURTHER INFORMATION CONTACT: Richard B. Wallio, Office of International Trade, Customs and Border Protection, Tel. (202) 344-2556.

SUPPLEMENTARY INFORMATION:

Background

This document makes technical corrections to § 173.3 of title 19 of the Code of Federal Regulations (19 CFR 173.3) to conform to changes to that section's underlying statutory authority.

Section 173.3 concerns the voluntarily reliquidation of entries and provides that within 90 days from the date notice of the original liquidation is given to the importer, consignee, or agent, the port director may reliquidate on his own initiative a liquidation or reliquidation to correct errors in appraisement, classification, or any other element entering into the liquidation or reliquidation.

Section 501 of the Tariff Act of 1930, as amended (19 U.S.C. 1501), provides the statutory authority for voluntary reliquidations and states that Customs and Border Protection (CBP) may reliquidate an entry within 90 days from the date on which notice of the original liquidation is given or transmitted to the importer, his consignee or agent. Section 1501 was amended by section 2107 of the Miscellaneous Trade and Technical Corrections Act of 2004 (Pub. L. 108-429, 118 Stat. 2598) to include “deemed liquidations” of 19 U.S.C. 1504 as among the types of liquidations CBP is authorized to voluntarily reliquidate. The date of original liquidation of an entry that liquidated by operation of law is the date of deemed liquidation.

This document makes technical corrections to § 173.3 to conform to the broadened scope of 19 U.S.C. 1501, as amended, which authorizes CBP to voluntarily reliquidate entries that have been deemed liquidated by operation of law pursuant to 19 U.S.C. 1504. Examples of types of entries which may be deemed liquidated by operation of law are countervailing duty (CVD), antidumping (AD), or drawback entries.

Inapplicability of Public Notice and Comment Requirement and Delayed Effective Date Requirement

Because the technical corrections to 19 CFR 173.3 set forth in this document merely conform to the statutory amendments to 19 U.S.C. 1501 effected by section 2107 of the Miscellaneous Trade and Technical Corrections Act of 2004, pursuant to 5 U.S.C. 553(b)(B), CBP finds that good cause exists for dispensing with notice and public procedure as unnecessary. For this same reason, pursuant to 5 U.S.C. 553(d)(3), CBP finds that good cause exists for dispensing with the requirement for a delayed effective date.

The Regulatory Flexibility Act

Because this document is not subject to the notice and public procedure requirements of 5 U.S.C. 553, it is not subject to the provisions of the Regulatory Flexibility Act (5 U.S.C. 601 et seq.).

Executive Order 12866

These amendments do not meet the criteria for a “significant regulatory action” as specified in E.O. 12866.

Signing Authority

This document is being issued in accordance with 19 CFR 0.1(a)(1).

List of Subjects in 19 CFR Part 173

Administrative practice and procedure, Customs duties and inspection.

Amendment to the Regulations

For the reasons stated above, part 173 of title 19 of the Code of Federal Regulations is amended as set forth below.

PART 173—ADMINISTRATIVE REVIEW IN GENERAL

1. The authority citation for part 173 continues to read as follows:

Authority: 19 U.S.C. 66, 1501, 1520, 1624.

* * * * *

2. In § 173.3, paragraph (a) is amended by revising the first sentence to read as follows:

§ 173.3 Voluntary reliquidation.

(a) Authority to reliquidate. Within 90 days from the date notice of deemed liquidation or notice of the original liquidation is given to the importer, consignee, or agent, the port director may reliquidate on his own initiative a liquidation or a reliquidation to correct errors in appraisement, classification, or any other element entering into the liquidation or reliquidation, including errors based on misconstruction of applicable law. * * *

* * * * *

Dated: July 20, 2007.
Deborah J. Spero,
Acting Commissioner, Customs and Border Protection.

[FR Doc. E7-14406 Filed 7-24-07; 8:45 am]

BILLING CODE 9111-14-P